DEPARTMENT OF DEFENSE

Office of the Secretary

[Docket ID: USAF-2009-0063]

Privacy Act of 1974; Systems of Records

AGENCY: Department of the Air Force, DoD.

ACTION: Notice to alter a system of records.

SUMMARY: The Department of the Air Force is proposing to alter a system of records notice in its inventory of record systems subject to the Privacy Act of 1974, (5 U.S.C. 552a), as amended.

DATES: This action will be effective without further notice on February 3, 2010 unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at (703) 696-6172.

SUPPLEMENTARY INFORMATION: The Department of the Air Force notices for systems of records subject to the Privacy Act of 1974 (5 U.S.C. 552a), as amended, have been published in the Federal Register and are available from the point of contact under FOR FURTHER INFORMATION CONTACT. The proposed system report, as required by 5 U.S.C. 552a(r) of the Privacy Act of 1974, as amended, was submitted on December 28, 2009, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: December 29, 2009.
Mitchell S. Bryman,
Alternate OSD Federal Register Liaison Officer, Department of Defense.

F036 AETC W

SYSTEM NAME:

Air Force Institute of Technology Management and Information System (AFITMIS) (February 21, 2008, 73 FR 9548).

CHANGES:

* * * * *

SYSTEM NAME:

Delete entry and replace with “Air Force Institute of Technology Student Information System (AFITSIS) Records”.

* * * * *

CATEGORIES OF INDIVIDUALS COVERED BY THE SYSTEM:

Delete entry and replace with “Resident students, faculty, staff, distant learning students, and students attending civilian institutions.”

CATEGORIES OF RECORDS IN THE SYSTEM:

Delete entry and replace with “Full name, Social Security Number (SSN), gender, race, date of birth, citizenship with country documents, mailing addresses, home and work telephone, home e-mail address, occupation, pay grade, rank, assigned unit identification code (UIC), service affiliation, government agency, course work, grades, academic program, and emergency contact information.”

AUTHORITY FOR MAINTENANCE OF THE SYSTEM:

Delete entry and replace with “10 U.S.C. 8013, Secretary of the Air Force: powers and duties; Air Force Instruction 36-2201, Air Force Training Program; Air Force Instruction 36-2301, Professional Military Education and E.O. 9397 (SSN), as amended.”

PURPOSE(S):

Delete entry and replace with “This system integrates all aspects of student information management. It provides core functions required for resident student graduate education, management of students in civilian institution programs, and course management for civil engineering education programs. Also, provides support for registration, academic programs, course offerings, grades, education planning, candidate packages, resource scheduling, degree auditing, financial reimbursements/forecasting, and official transcript generation.”

* * * * *

SAFEGUARDS:

Delete entry and replace with “Records are accessed by custodian of the record system and by person(s) responsible for servicing the record system in performance of their official duties and who are properly screened and cleared for need-to-know. Additionally, records access is controlled by user profiles that will ensure only the data that should be accessible to that individual will appear on the screen. Access to the system is by user account and password or by the Common Access Card (CAC). Permission levels have been established on a need-to-know basis.”

* * * * *

NOTIFICATION PROCEDURE:

Delete entry and replace with “Individuals seeking to determine whether this system of records contains information on themselves should address written inquiries to or visit the Communications and Information Directorate, Air Force Institute of Technology, 2950 Hobson Way, Wright-Patterson Air Force Base, Ohio 45433-7765.

Requests should include full name, Social Security Number (SSN) and any details that will assist in locating the record.”

RECORD ACCESS PROCEDURES:

Delete entry and replace with “Individuals seeking access to information about themselves contained in this system should address written inquiries to or visit the Communications and Information Directorate, Air Force Institute of Technology, 2950 Hobson Way, Wright-Patterson Air Force Base, Ohio 45433-7765.

Requests should include full name, Social Security Number (SSN) and any details that will assist in locating the record.”

* * * * *

F036 AETC W

SYSTEM NAME:

Air Force Institute of Technology Student Information System (AFITSIS) Records.

SYSTEM LOCATION:

Air Force Institute of Technology (AFIT), AFIT Communications and Information Directorate, 2950 Hobson Way, Wright-Patterson Air Force Base, OH 45433-7765.

CATEGORIES OF INDIVIDUALS COVERED BY THE SYSTEM:

Resident students, faculty, staff, distant learning students, and students attending civilian institutions.

CATEGORIES OF RECORDS IN THE SYSTEM:

Full name, Social Security Number (SSN), gender, race, date of birth, citizenship with country documents, mailing address, home and work telephone, home e-mail address, occupation, pay grade, rank, assigned unit identification code (UIC), service affiliation, government agency, course work, grades, academic program, and emergency contact information.

AUTHORITY FOR MAINTENANCE OF THE SYSTEM:

10 U.S.C. 8013, Secretary of the Air Force: powers and duties; Air Force Instruction 36-2201, Air Force Training Program; Air Force Instruction 36-2301, Professional Military Education and E.O. 9397 (SSN), as amended.

PURPOSE(S):

This system integrates all aspects of student information management. It provides core functions required for resident student graduate education, management of students in civilian institution programs, and course management for civil engineering education programs. Also, provides support for registration, academic programs, course offerings, grades, education planning, candidate packages, resource scheduling, degree auditing, financial reimbursements/forecasting, and official transcript generation.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

The DoD “Blanket Routine Uses” published at the beginning of the Air Force's compilation of record system notices apply to this system.

POLICIES AND PRACTICES FOR STORING, RETRIEVING, ACCESSING, RETAINING, AND DISPOSING OF RECORDS IN THE SYSTEM:

STORAGE:

Paper records and on electronic storage media.

RETRIEVABILITY:

Name and/or Social Security Number (SSN).

SAFEGUARDS:

Records are accessed by custodian of the record system and by person(s) responsible for servicing the record system in performance of their official duties and who are properly screened and cleared for need-to-know. Additionally, records access is controlled by user profiles that will ensure only the data that should be accessible to that individual will appear on the screen. Access to the system is by user account and password or by the Common Access Card (CAC). Permission levels have been established on a need-to-know basis.

RETENTION AND DISPOSAL:

Destroy 30 years after individual completes or discontinues a training course. Computer records are destroyed by erasing, deleting or overwriting. Paper records are destroyed by shredding.

SYSTEM MANAGER(S) AND ADDRESS:

Director, Communications and Information Directorate, Air Force Institute of Technology, 2950 Hobson Way, Wright-Patterson Air Force Base, Ohio 45433-7765.

NOTIFICATION PROCEDURE:

Individuals seeking to determine whether this system of records contains information on themselves should address written inquiries to or visit the Communications and Information Directorate, Air Force Institute of Technology, 2950 Hobson Way, Wright-Patterson Air Force Base, Ohio 45433-7765.

Request should include full name, Social Security Number (SSN) and any details that will assist in locating the record.

RECORD ACCESS PROCEDURES:

Individuals seeking access to information about themselves contained in this system should address written inquiries to or visit the Communications and Information Directorate, Air Force Institute of Technology, 2950 Hobson Way, Wright-Patterson Air Force Base, Ohio 45433-7765.

Request should include full name, Social Security Number (SSN) and any details that will assist in locating the record.

CONTESTING RECORD PROCEDURES:

The Air Force rules for accessing records, and for contesting contents and appealing initial agency determinations are published in Air Force Instruction 37-132; 32 CFR part 806b; or may be obtained from the system manager.

RECORD SOURCE CATEGORIES:

Information comes from source documents such as written examinations and grade sheets; from reports by instructors and students; and from the individual.

EXEMPTIONS CLAIMED FOR THE SYSTEM:

None.

[FR Doc. E9-31157 Filed 12-31-09; 8:45 am]

BILLING CODE 5001-06-P